DEPARTMENT OF ENERGY

Federal Energy Regulatory Commission

[Docket No. RP96-383-039]

Dominion Transmission, Inc.; Notice of Compliance Filing

April 3, 2002.

Take notice that on March 28, 2002, Dominion Transmission, Inc. (DTI) submitted the following tariff sheet disclosing a negotiated rate transaction:

Second Revised Sheet No. 1402

DTI states that the tariff sheet relates to a negotiated rate transaction between DTI and Rochester Gas and Electric Corporation (RG&E). The transaction provides RG&E with firm transportation service and conforms to the forms of service agreement contained in DTI's tariff. The term of the agreement is for a primary term of April 1, 2002, through March 31, 2003, and from year to year thereafter. DTI requests an effective date of April 1, 2002 for Second Revised Sheet No. 1402.

DTI states that copies of its filing have been served upon DTI's customers, interested state commissions and on all persons on the official service list compiled by the Secretary of the Commission for this proceeding.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-8506 Filed 4-8-02; 8:45 am]

BILLING CODE 6717-01-P